DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Patent and Trademark Financial Transactions (formerly Payment of Patent and Trademark Office Fees by Credit Card).

Form Number(s): PTO-2038, PTO-2231, PTO-2232, PTO-2233, PTO-2234, PTO-2236.

Agency Approval Number: 0651-0043.

Type of Request: Revision of a currently approved collection.

Burden: 58,116 hours annually.

Number of Respondents: 1,928,705 responses per year.

Avg. Hours Per Response: The USPTO estimates that it will take the public approximately two to four minutes (0.03 to 0.07 hours) to gather the necessary information, prepare, and submit the items in this collection.

Needs and Uses: Under 35 U.S.C. 41 and 15 U.S.C. 1113, as implemented in 37 CFR 1.16-1.28, 2.6-2.7, and 2.206-2.209, the USPTO charges fees for processing and other services related to patents, trademarks, and information products. Customers may pay fees by credit card, USPTO deposit account, or electronic funds transfer (EFT). The public uses this collection to pay patent and trademark fees by credit card, to establish and manage USPTO deposit accounts, to set up a user profile for EFT transactions, and to request refunds. In addition to the existing Credit Card Payment Form (PTO-2038) and Electronic Credit Card Payment Form (PTO-2231), the USPTO is adding the Deposit Account Application Form (PTO-2232), Deposit Account Replenishments, the Electronic Deposit Account Replenishment Form (PTO-2233), the Deposit Account Closure Request Form (PTO-2234), the EFT User Profile Form (PTO-2236), and Refund Requests to this collection. The USPTO does not currently provide official forms for paper Deposit Account Replenishments or Refund Requests.

Affected Public: Individuals or households, businesses or other for-profits, not-for-profit institutions, farms, the Federal Government, and state, local or tribal governments.

Frequency: On occasion.

Respondent's Obligation: Required to obtain or retain benefits.

OMB Desk Officer: David Rostker, (202) 395-3897.

Copies of the above information collection proposal can be obtained by any of the following methods:

• E-mail: Susan.Brown@uspto.gov. Include “0651-0043 copy request” in the subject line of the message.

• Fax: 571-273-0112, marked to the attention of Susan Brown.

• Mail: Susan K. Brown, Records Officer, Office of the Chief Information Officer, Office of Data Architecture and Services, Data Administration Division, U.S. Patent and Trademark Office, P.O. Box 1450, Alexandria, VA 22313-1450.

Written comments and recommendations for the proposed information collection should be sent on or before January 30, 2006 to David Rostker, OMB Desk Officer, Room 10202, New Executive Office Building, 725 17th Street, NW., Washington, DC 20503.

Dated: December 21, 2005.
Susan K. Brown,
Records Officer, USPTO, Office of the Chief Information Officer, Office of Data Architecture and Services, Data Administration Division.

[FR Doc. E5-8022 Filed 12-28-05; 8:45 am]

BILLING CODE 3510-16-P